CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal of its Volunteer Service Hour Tracking Tool (Record of Service). The Record of Service was established in 2002 as a tool to help Americans answer President Bush's call to service and keep track of their volunteer service hours.

Copies of the information collection requests can be obtained by contacting the office listed in the address section of this notice.

DATES: Written comments must be submitted to the individual and office listed in the ADDRESSES section by February 10, 2009.

ADDRESSES: You may submit comments, identified by the title of the information collection activity, by any of the following methods:

(1) By Mail sent to: Corporation for National and Community Service; Attention Shannon Maynard, Executive Director President's Council on Service and Civic Participation; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3460, Attention Shannon Maynard, Executive Director President's Council on Service and Civic Participation.

(4) Electronically through the Corporation's e-mail address system: smaynard@cns.gov.

FOR FURTHER INFORMATION CONTACT: Shannon Maynard, (202) 606-6713, or by e-mail at smaynard@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

In January of 2002, in his State of the Union Address, President Bush called on all Americans to dedicate 4,000 hours or two years of their lives to volunteer service. He created the USA Freedom Corps, a coordinating office at the White House to oversee these efforts and to bring increased attention to the ways in which the Administration could work together to enhance opportunities for all Americans to serve their neighbors and their nation.

In support of the President's call to service, the Corporation created an electronic Record of Service to provide citizens a way to track their service activities and individually record their volunteer service hours. Use of this tracking tool is 100 percent electronic in that users establish a user ID and password that automatically creates an account which is only accessible to that individual user. The Record of Service can only be updated by the user who established the account. The Record of Service has received heavy public use and is a primary way for individuals to track their eligibility for the President's Volunteer Service Award.

Individuals may link to this tracking tool through the USA Freedom Corps Web site at http://www.usafreedomcorps.gov or the President's Volunteer Service Award Web site at http://www.presidentialserviceawards.gov.

Current Action

The Corporation seeks to renew the current Record of Service. The Record of Service will be used in the same manner as the existing Record of Service.

Type of Review: Renewal.

Agency: Corporation for National and Community Service.

Title: Volunteer Service Hour Tracking Tool.

OMB Number: 3045-0077.

Agency Number: None.

Affected Public: Citizens of the United States.

Total Respondents: 100,000.

Frequency: On occasion.

Average Time Per Response: 3 minutes.

Estimated Total Burden Hours: 5,000 hours.

Total Burden Cost (capital/startup): None.

Total Burden Cost (operating/maintenance): None.

Comments submitted in response to this notice will be summarized and/or included in the request for Office of Management and Budget approval of the information collection request; they will also become a matter of public record.

Dated: December 4, 2008.
Kristin McSwain,
Chief Program Officer.

[FR Doc. E8-29502 Filed 12-11-08; 8:45 am]

BILLING CODE 6050-$$-P